COMMODITY FUTURES TRADING COMMISSION

Agricultural Advisory Committee; Eleventh Renewal

The Commodity Futures Trading Commission has determined to renew again for a period of two years its advisory committee designated as the “Agricultural Advisory Committee.” The Commission certifies that the renewal of the advisory committee is in the public interest in connection with duties imposed on the Commission by the Commodity Exchange Act, 7 U.S.C. 1, et seq., as amended.

The objectives and scope of activities of the Agricultural Advisory Committee are to conduct public meetings and submit reports and recommendations on issues affecting agricultural producers, processors, lenders and others interested in or affected by agricultural commodities markets, and to facilitate communications between the Commission and the diverse agricultural and agriculture-related organizations represented on the Committee. The Committee's membership represents a cross-section of interested and affected groups including representatives of producers, processors, lenders and other interested agricultural groups.

Interested persons may obtain information or make comments by writing to the Commodity Futures Trading Commission, Three Lafayette Centre, 1155 21st Street, NW., Washington, DC 20581.

Issued in Washington, DC, on March 31, 2005, by the Commission.
Jean A. Webb,
Secretary of the Commission.

[FR Doc. 05-6779 Filed 4-5-05; 8:45 am]

BILLING CODE 6351-01-M